DEPARTMENT OF COMMERCE

National Oceanic and Atmospheric Administration

[I.D. 032800E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting via conference call of the Red Drum Stock Assessment Panel (RDSAP).

DATES: This meeting will be via conference call on April 17, 2000, beginning at 10:00 a.m. EST.

ADDRESSES: A listening station will be available at the following location:

NMFS Southeast Regional Office, 9721 Executive Center Drive, North, St. Petersburg, FL 33702.

Contact: Georgia Cranmore at 727-570-5305.

Council address: Gulf of Mexico Fishery Management Council, 3018 U.S. Highway 301 North, Suite 1000, Tampa, FL 33619.

FOR FURTHER INFORMATION CONTACT: Peter Hood, Fishery Biologist, Gulf of Mexico Fishery Management Council; telephone: 813-228-2815.

SUPPLEMENTARY INFORMATION: The RDSAP will be convened via conference call on April 17, 2000, beginning at 10:00 a.m. EST. The RDSAP will continue their review of a stock assessment on the status of the red drum stocks in the Gulf of Mexico prepared by NMFS. The RDSAP will consider available information, including but not limited to, commercial and recreational catches, natural and fishing mortality estimates, recruitment, fishery-dependent and fishery-independent data, and data needs. These analyses will be used to determine the condition of the stocks and the levels of acceptable biological catch (ABC). The RDSAP may also review estimates of stock size (biomass at maximum sustainable yield [Bmsy]) and minimum stock size thresholds (MSST). Currently it is illegal to harvest or possess red drum in Federal waters.

The conclusions of the RDSAP will be reviewed by the Council's Standing and Special Red Drum Scientific and Statistical Committee (SSC), and Red Drum Advisory Panel (RDAP) at meetings held between May 3-5, 2000.

A copy of the agenda can be obtained by contacting the Council (see ADDRESSES).

Although other non-emergency issues not on the agenda may come before the RDSAP for discussion, in accordance with the Magnuson-Stevens Fishery Conservation and Management Act, those issues may not be the subject of formal action during this meeting. Actions of the RDSAP will be restricted to those issues specifically identified in the agenda and any issues arising after publication of this notice that require emergency action under section 305(c) of the Magnuson-Stevens Act, provided the public has been notified of the Council's intent to take action to address the emergency.

Special Accommodations

The listening station is physically accessible to people with disabilities. Requests for sign language interpretation or other auxiliary aids should be directed to Anne Alford at the Council (see ADDRESSES) by April 10, 2000.

Dated: March 29, 2000.
Bruce C. Morehead,
Acting Director, Office of Sustainable Fisheries, National Marine Fisheries Service.

[FR Doc. 00-8162 Filed 3-31-00; 8:45 am]

BILLING CODE 3510-22-F